DEPARTMENT OF HEALTH AND HUMAN SERVICES

Solicitation of Nominations for Appointment to the Tick-Borne Disease Working Group; Amendment

AGENCY: Office of the Assistant Secretary for Health, Office of the Secretary, Department of Health and Human Services.

ACTION: Notice; amendment.

SUMMARY: A notice was published in the Federal Register on Monday, July 17, 2017 (Vol. 82, No. 135, pages 32711-32712), to solicit nominations of individuals who are interested in being considered for appointment to the Tick-Borne Disease Working Group (Working Group). The nomination period is scheduled to end close of business on August 16, 2017. The notice is being amended to extend the solicitation period for one week to allow more time for interested individuals to submit nominations.

DATES: The solicitation period has been extended. All nominations are due to be submitted on or before August 23, 2017.

ADDRESSES: All nominations should be sent to: CAPT Richard Henry; Office of the Assistant Secretary for Health; Department of Health and Human Services; 330 C Street SW., Suite L100, Washington, DC 20024. Nomination materials, including attachments, also may be submitted electronically to tickbornedisease@hhs.gov.

FOR FURTHER INFORMATION CONTACT: CAPT Richard Henry, Office of the Assistant Secretary for Health; Department of Health and Human Services; Telephone: (202) 795-7615; Email address: richard.henry@hhs.gov.

Dated: August 10, 2017.
Donald Wright,
Acting Assistant Secretary for Health.

[FR Doc. 2017-17323 Filed 8-15-17; 8:45 am]

BILLING CODE 4150-28-P